DEPARTMENT OF VETERANS AFFAIRS

Advisory Committee on Homeless Veterans; Notice of Meeting

The Department of Veterans Affairs (VA) gives notice under the Federal Advisory Committee Act, 5 U.S.C., App. 2., that a virtual meeting of the Advisory Committee on Homeless Veterans will be held September 14-15, 2021. The meeting sessions will begin and end each day from 12:00 p.m. to 4:00 p.m. Eastern Standard Time (EST). The meeting sessions are open to the public.

The purpose of the Committee is to provide the Secretary of Veterans Affairs with an ongoing assessment of the effectiveness of the policies, organizational structures, and services of VA in assisting Veterans at risk of and experiencing homelessness. The Committee shall assemble, and review information related to the needs of homeless Veterans and provide advice on the most appropriate means of assisting this Veteran population. The Committee will make recommendations to the Secretary regarding such activities.

On Tuesday, September 14 and Wednesday, September 15, 2021, the agenda will include briefings from VA and other federal agencies officials regarding services for homelessness among Veterans. The Committee will also discuss topics for its annual report and recommendations to the Secretary of Veterans Affairs.

No time will be allocated at this meeting for receiving oral presentations from the public. Interested parties should provide written comments on issues affecting homeless Veterans for review by the Committee to Leisa Davis, Designated Federal Officer, Veterans Health Administration Homeless Programs Office (11HPO), U.S. Department of Veterans Affairs, 811 Vermont Avenue NW (11HPO), Washington, DC 20420, or via email at Leisa.Davis@va.gov.

Members of the public who wish to attend should contact Leisa Davis of the Veterans Health Administration, Homeless Programs Office, at Leisa.Davis@va.gov or (202) 632-8588 no later than September 1, 2021, providing their name, professional affiliation, email address, and phone number. Attendees who require reasonable accommodations should also state so in their requests. There will also be a call-in number: 1 872-701-0185, access code: 900 779 535.

Dated: August 13, 2021.
Jelessa M. Burney,
Federal Advisory Committee Management Officer.

[FR Doc. 2021-17730 Filed 8-17-21; 8:45 am]

BILLING CODE P